DEPARTMENT OF STATE

[Public Notice 4062]

Bureau of Near Eastern Affairs; Humanitarian Assistance Program

AGENCY: Department of State.

ACTION: Notice.

Introduction

The Office of Northern Gulf Affairs (NGA) announces an open competition for proposals for humanitarian assistance projects in Iraq (southern, central or northern) and for Iraqi refugees in neighboring countries. Multiple awards may be made from this announcement. Proposals may address any area or sector within a broad range of humanitarian relief to Iraqi people, including, but not limited to, the following:

• Medical care, health services, and health education

• Relief to internally displaced persons or refugees

• Relief supplies

• Shelter/housing

• Water supply

• Sanitation

• Primary education

• Landmine action, education and awareness

The list is not intended to be exclusive or binding, and NGA remains open to considering a broad range of humanitarian-related NGO activities and innovative projects. Projects in Iraq must be consistent with any applicable UN resolutions.

Purpose

The purpose of this humanitarian assistance program is to respond to urgent humanitarian needs of people in Iraq, Iraqi refugees, and internally displaced persons. The primary objective is to provide relief and access to basic, life-sustaining resources in ways that meet internationally accepted standards of care in such areas as public health, medical care and services, shelter/housing, water supply, sanitation, education, and other areas.

Eligible Applicants

Eligible applicants include all non-governmental and non-profit organizations.

Legislative Authority

This program is authorized by Section 575 of the Foreign Operations, Export Financing, and Related Programs Appropriations Act, 2001 (FOAA)(P.L. 106-429).

Availability of Funds

The funding level for this program is $6,600,000. It is anticipated that at least 5 awards will be made ranging from $500,000 to $3.5 million. The Grants Officer reserves the right to award less, or more, than the funds described, in the absence of worthy applications, or under such other circumstances as may be deemed to be in the best interest of the government.

Review Criteria

Eligible applications will be competitively evaluated according to the following criteria:

Results or Benefits Expected—The applicant clearly describes the results and benefits to be achieved. The applicant identifies how improvement will be measured on key indicators and provides milestones indicating progress. Proposed outcomes are tangible and achievable within the grant project period. (30 points)

Approach—The applicant must demonstrate that its strategy and plan are likely to achieve the proposed results; the proposed activities and timeframes are reasonable and feasible. The plan describes in detail how the proposed activities will be accomplished as well as the potential for the project to have a positive impact on the quality of life for Iraqi people. (25 points)

Organization Profiles—Where coalition partners are proposed, the applicant describes the rationale for the collaboration, each partner agency's respective role, and how the coalition will enhance the accomplishment of the project goals. In all cases, the applicant describes planning consultation efforts undertaken. The proposed coalition is appropriate with respective roles and financial responsibilities delineated. Evidence of commitment of coalition partners in implementing the activities is demonstrated, i.e., by letters or the terms of the signed agreement among participants. The applicant or coalition partners provide documented experience in performing the proposed services as well as adequate gender balance and constituent representation on the proposed project's advisory board. Assurance is provided that proposed services will be delivered in a manner that is linguistically and culturally appropriate to the target population. Individual organization staff including volunteers are well-qualified. The administrative and management features of the project, including a plan for fiscal and programmatic management of each activity, is described in detail with proposed start-up times, ongoing timelines, major milestones or benchmarks, a component/project organization chart, and a staffing chart. (25 points)

Budget and Budget Justification—The budget and narrative justification are reasonable in relation to the proposed activities and anticipated results and the plan for services is realistic. (20 points)

Application/Proposal Submission and Deadline

An application (Standard Form 424) with an original signature and two clearly identified copies is required. The application form (Standard Form 424) and instructions can be obtained from either:

(1) the following Web sites:

http://www.whitehouse.gov/omb/grants/#forms

http://www.usaid.gov/procurement bus opp/procurement/forms/SF-424/

(2) Anna Mary Portz, Grants Officer, U.S. Department of State, NEA/NGA, Room 4241, 2201 C Street NW., Washington, DC 20520, telephone (202) 647-6111, fax (202) 736-4464, e-mail portzam,@state.gov.

Application materials must be submitted to the U.S. Department of State, Anna Mary Portz, Grants Officer, NEA/NGA, Room 4241, 2201 C Street NW., Washington, DC 20520 on or before close of business (4:30 p.m. EST) August 1, 2002. Due to delays in regular mail delivery to the State Department, applicants are strongly encouraged to hand-carry or use couriers to deliver applications to NEA/NGA, between the hours of 8:30-4:30 p.m., to the attention of Anna Mary Portz. Express or overnight mail services may also be used, though applicants are cautioned that express/overnight mail services do not always deliver as agreed and other delays may occur until regular mail delivery is resumed.

Applicants must also provide an electronic copy of the proposal by e-mail to Anna Mary Portz, Grants Officer at e-mail address portzam@state.gov). Proposals must be submitted in both hard copy and by e-mail; proposals submitted only by e-mail, or only in hard copy, will not be considered. The Grants Officer must be aware that the proposal is on its way, or the package risks being considered late or turned away by Diplomatic Security.

Applications submitted by e-mail and either (1) mail (including express mail or overnight mail services), or (2) hand-carried by applicant couriers or by other representatives of the applicant, shall be considered as meeting an announced deadline if they are received on or before close of business (4:30 p.m. est) August 1, 2002.

Late Applications

Applications received after the closing date and time will be classified as late.

Applications which do not meet the criteria above are considered late applications. NGA shall notify each late applicant that its application will not be considered in the current competition.

General Instructions for Preparing a Full Project Description

The project description provides a major means by which an application is evaluated and ranked to compete with other applications for available assistance. The project description should be concise and complete and should address the activity for which Federal funds are being requested. Supporting documents should be included where they can present information clearly and succinctly. Applicants are encouraged to provide information on their organizational structure, staff, related experience, and other information considered relevant. Awarding offices use this and other information to determine whether the applicant has the capability and resources necessary to carry out the proposed project. It is important, therefore, that this information be included in the application. However, in the narrative the applicant must distinguish between resources directly related to the proposed project from those that will not be used in support of the specific project for which funds are requested.

Length of Applications

Each application narrative should not exceed 25 double-spaced pages in a 12-pitch font. Attachments and appendices should not exceed 25 pages and should be used only to provide supporting documentation such as administration charts, position descriptions, resumes, and letters of intent or partnership agreements. Each page should be numbered sequentially, including the attachments or appendices. This limitation of 25 pages plus the SF 424 should be considered as a maximum, and not necessarily a goal.

Introduction

NGA is particularly interested in specific factual information and statements of measurable goals in quantitative terms. Project descriptions are evaluated on the basis of substance, not length. Extensive exhibits are not required. (Supporting information concerning activities that will not be directly funded by the grant or information that does not directly pertain to an integral part of the grant funded activity should be placed in an appendix.) Applicants shall prepare the project description statement in accordance with the following instructions.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated.

Results or Benefits Expected

Identify the results and benefits to be derived.

Approach

Outline a plan of action which describes the scope and detail of how the proposed work will be accomplished. Account for all functions or activities identified in the application. Cite factors which might accelerate or decelerate the work and state your reason for taking the proposed approach rather than others. Describe any unusual features of the project such as reductions in cost or time, or extraordinary social and community involvement.

Provide quantitative monthly or quarterly projections of the accomplishments to be achieved for each function or activity. When accomplishments cannot be quantified by activity or function, list them in chronological order to show the schedule of accomplishments and their target dates. List organizations, cooperating entities, consultants, or other key individuals who will work on the project along with a short description of the nature of their effort or contribution.

Geographic Location

Describe the precise location of the project and boundaries of the area to be served by the proposed project. Maps or other graphic aids may be attached.

Staff and Position Data

Provide a biographical sketch for each key person appointed and a job description for each vacant key position. A biographical sketch will also be required for new key staff as appointed.

Organization Profiles

Provide information on the applicant organization(s) and cooperating partners such as organizational charts, financial statements, audit reports, documentation of experience in the program area, and other pertinent information.

Third-Party Agreements

Include written agreements between grantees and subgrantees or subcontractors or other cooperating entities. These agreements must detail scope of work to be performed, work schedules, remuneration, and other terms and conditions that structure or define the relationship.

Budget and Budget Justification

Applicants must submit a comprehensive budget for the entire project. There must be a summary budget as well as breakdowns reflecting both administrative and program budgets. Applicants may provide separate sub-budgets, sub-grant, or contract budgets for each program component, phase, location, or activity to provide clarification. Provide line item detail and detailed calculations for each budget object class identified. Detailed calculations must include estimation methods, quantities, unit costs, and other similar quantitative detail sufficient for the calculation to be duplicated. The detailed budget must also include a breakout by the funding sources identified in Block 15 of the SF-424. Provide a narrative budget justification that describes how the categorical costs are derived. Discuss the necessity, reasonableness, and allocability of the proposed costs. The following guidelines are for preparing the budget and budget justification.

Personnel

Description: Costs of employee salaries and wages. Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate. Justification: Provide a breakdown of the amounts and percentages that comprise fringe benefit costs such as health insurance, FICA, retirement insurance, taxes, etc.

Travel

Description: Costs of project-related travel by employees of the applicant organization (does not include costs of consultant travel). Justification: For each trip, show the total number of traveler(s), travel destination, duration of trip, per diem, mileage allowances, if privately owned vehicles will be used, and other transportation costs and subsistence allowances.

Equipment

Description: Costs of tangible, non-expendable, personal property, having a useful life of more than one year and an acquisition cost of $5,000 or more per unit. However, an applicant may use its own definition of equipment provided that such equipment would at least include all equipment defined above. Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category. Justification: Specify general categories of supplies and their costs. Show computations and provide other information which supports the amount requested.

Contractual

Description: Costs of all contracts for services and goods except for those which belong under other categories such as equipment, supplies, construction, etc.

Justification: Attach a list of proposed contractors, indicating the names of the organizations, the purposes of the contracts, the estimated dollar amounts, and the award selection process.

Other

Enter the total of all other costs. Such costs, where applicable and appropriate, may include but are not limited to insurance, professional services costs, space and equipment rentals, printing and publication, computer use, and administrative costs. Justification: Provide computations, a narrative description and a justification for each cost under this category.

Total Direct Charges, Total Indirect Charges, Total Project Costs: Self explanatory.

Reporting Requirement

Quarterly progress and financial reports are required for all funded projects. Final reports will be due 90 days after end of project period.

Where To Obtain Additional Information

Questions regarding this Request for Proposals should be directed to Anna Mary Portz, Grants Officer, Department of State, NEA/NGA, Room 4241, 2201 C Street NW., Washington, DC, 20520, telephone (202) 647-5281, fax (202) 736-4464, e-mail portzam,@state.gov.

Dated: July 3, 2002.
Ryan Crocker,
Acting Assistant Secretary, Bureau of Near Eastern Affairs, Department of State.

[FR Doc. 02-17328 Filed 7-9-02; 8:45 am]

BILLING CODE 4710-31-P